DEPARTMENT OF ENERGY

Federal Energy Regulatory Commission

[Docket No. RP03-10-000]

Gulf South Pipeline Company, LP; Notice of Proposed Changes to FERC Gas Tariff

October 4, 2002.

Take notice that on October 2, 2002, Gulf South Pipeline Company, LP (Gulf South) tendered for filing as part of its FERC Gas Tariff, Sixth Revised Volume No. 1, the following tariff sheets, to become effective November 1, 2002:

Second Revised Sheet No. 2

Second Revised Sheet No. 102

First Revised Sheet No. 105

First Revised Sheet No. 201

First Revised Sheet No. 204

First Revised Sheet No. 302

Third Revised Sheet No. 306

First Revised Sheet No. 405

First Revised Sheet No. 503

Third Revised Sheet No. 604

Second Revised Sheet No. 605

First Revised Sheet No. 720

First Revised Sheet No. 2446

First Revised Sheet No. 2501

Original Sheet No. 4020

Second Revised Sheet No. 4100

Reserved Sheet Nos. 4101-4199

Second Revised Sheet No. 4200

Reserved Sheet Nos. 4201-4299

Second Revised Sheet No. 4300

Reserved Sheet Nos. 4301-4399

Second Revised Sheet No. 4400

Reserved Sheet Nos. 4401-4499

Second Revised Sheet No. 4500

Reserved Sheet Nos. 4501-4599

Second Revised Sheet No. 4600

Reserved Sheet Nos. 4601-4699

Original Sheet No. 4703

Reserved Sheet Nos. 4704-4749

Second Revised Sheet No. 4804

Reserved Sheet Nos. 4903-5199

Gulf South is revising the tariff sheets listed above in order simplify Gulf South's pro forma service agreements and to eliminate any possibility of confusion between the service agreement terms and conditions and other tariff provisions. The language from the standard terms and conditions of such agreements has either been eliminated or moved to another part of the tariff as more fully described below. Gulf South is also updating its tariff to eliminate its proprietary Operational Balancing Agreement form and proposes to utilize the NAESB Model Operational Balancing Agreement as the form document for its OBA agreements.

Gulf South states that copies of this filing have been served upon Gulf South's customers, state commissions and other interested parties.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-25839 Filed 10-10-02; 8:45 am]

BILLING CODE 6717-01-P